DEPARTMENT OF STATE

[Public Notice: 12529; No. 2024-05]

Determination Pursuant to the Foreign Missions Act

Pursuant to the authority vested in the Secretary of State under the Foreign Missions Act, 22 U.S.C. 4301, et seq. (“the Act”), and delegated pursuant to Department of State Delegation of Authority No. 214, dated September 20, 1994, I hereby determine that the representative offices and operations in the United States of RT (formerly “Russia Today”), including their real property and personnel, are a foreign mission within the meaning of 22 U.S.C. 4302(a)(3).

Furthermore, I hereby determine it to be reasonably necessary to protect the interests of the United States to require the representative offices and operations in the United States of RT and its agents or employees acting on its behalf, to comply with the terms and conditions specified by the Department of State's Office of Foreign Missions relating to the above-named entity's activities in the United States.

Rebecca E. Gonzales,
Director, Office of Foreign Missions, Department of State.

[FR Doc. 2024-20516 Filed 9-10-24; 8:45 am]

BILLING CODE 4711-11-P